DEPARTMENT OF AGRICULTURE

Food Safety and Inspection Service

[Docket No. FSIS-2006-0029]

National Advisory Committee on Meat and Poultry Inspection

AGENCY: Food Safety and Inspection Service (FSIS), USDA.

ACTION: Notice of public meeting.

SUMMARY: The National Advisory Committee on Meat and Poultry Inspection (NACMPI) will hold a public meeting on October 12-13, 2006, to review and discuss the following issues: (1) Using Risk to Direct In-Plant Inspection Activities in Processing Assignments, and (2) Using Risk in Slaughter Operations. Two subcommittees will also meet on October 12, 2006, to work on these issues after discussion during the full committee session.

DATES: The full Committee will hold a public meeting on Thursday, October 12, and Friday, October 13, 2006, from 8:30 a.m. to 2 p.m. Subcommittees will hold open meetings on Thursday, October 12, 2006, from 2 p.m. to 6 p.m.

ADDRESSES: All Committee meetings will take place in the conference room at the south end of the U. S. Department of Agriculture (USDA) cafeteria located in the South Building, 1400 Independence Avenue, SW., Washington, DC 20250. A meeting agenda is available on the Internet at the NACMPI Web site, http://www.fsis.usda.gov/about_fsis/nacmpi/index.asp. The NACMPI meeting agenda, together with information and resource materials on risk-based inspection, is also available on the Internet at the Risk-based Inspection System Web site, http://www.fsis.usda.gov/Regulations_&_Policies/Risk_Based_Inspection/index.asp. FSIS welcomes comments on the topics to be discussed at the NACMPI public meeting. Comments may be submitted by any of the following methods:

Electronic mail: NACMPI@fsis.usda.gov.

Mail, including floppy disks or CD-ROM's: Send to Advisory Committee Specialist, United States Department of Agriculture, Food Safety and Inspection Service, 14th & Independence Avenue, SW., Mail Drop 405 Aerospace, Washington, DC 20250.

Hand-or courier-delivered items: Deliver to Loraine Cannon at 901 D Street, SW., Washington, DC. To deliver these items, the building security guard must first call (202) 690-6520.

Facsimile: Send to Loraine Cannon, (202) 690-6519.

All submissions received must include the Agency name and docket number FSIS-2006-0029.

FOR FURTHER INFORMATION CONTACT: Robert Tynan for technical information at (202) 720-3884, or e-mail robert.tynan@fsis.usda.gov and Loraine Cannon for meeting information at (202) 690-6647, FAX (202) 690-6519, or e-mail NACMPI@fsis.usda.gov. Persons requiring a sign language interpreter or other special accommodations should notify Loraine Cannon no later than September 26, 2006, at the numbers above or by e-mail.

SUPPLEMENTARY INFORMATION:

Background

On March 15, 2005, the Secretary of Agriculture renewed the charter for the NACMPI. The Committee provides advice and recommendations to the Secretary of Agriculture pertaining to the Federal and State meat and poultry inspection programs, pursuant to sections 7(c), 24, 205, 301(a)(3), 301(a) (4), and 301(c) of the Federal Meat Inspection Act [21 U.S.C. 607(c), 624, 645, 661(a)(3), 661(a)(4), and 661(c)] and sections 5(a)(3), 5(a)(4), 5(c), 8(b), and 11(e) of the Poultry Products Inspection Act [21 U.S.C. 454(a)(3), 454(a)(4), 454(c), 457(b), and 460(e)].

The Administrator of FSIS is the chairperson of the Committee. Membership of the Committee is drawn from representatives of consumer groups; producers, processors and marketers from the meat, poultry and egg product industries; State and local government officials; and academia. The current members of the NACMPI are: Dr. Gladys Bayse, Spelman College; Dr. David Carpenter, Southern Illinois University; Dr. James Denton, University of Arkansas; Mr. Darin Detwiler, Lake Washington School District; Mr. Kevin Elfering, Minnesota Department of Agriculture; Ms. Sandra Eskin, Public Policy Consultant; Mr. Mike Finnegan, Montana Department of Agriculture; Mr. Michael Govro, Oregon Department of Agriculture; Dr. Andrea Grondahl, North Dakota Department of Agriculture; Dr. Joseph Harris, Southwest Meat Association; Dr. Jill Hollingsworth, Food Marketing Institute; Mr. Michael Kowalcyk, Safe Tables Our Priority; Dr. Irene Leech, Virginia Citizens Consumer Council; Mr. Charles Link, Cargill Meat Solutions; Dr. Catherine Logue, North Dakota State University; and Mr. Mark Schad, Schad Meats, Inc.

The Committee has two subcommittees to deliberate on specific issues and make recommendations to the whole Committee. The Committee makes recommendations to the Secretary of Agriculture.

All interested parties are welcome to attend the meetings and to submit written comments and suggestions concerning issues the Committee will review and discuss. The comments and the official transcript of the meeting, when they become available, will be kept in the FSIS Docket Room, 300 12th Street, SW., Room 102, Cotton Annex Building, Washington, DC 20250, and posted on the Agency's NACMPI Web site, http://www.fsis.usda.gov/about_fsis/nacmpi/index.asp.

Members of the public will be required to register before entering the meeting.

Additional Public Notification

Public awareness of all segments of rulemaking and policy development is important. Consequently, in an effort to ensure that minorities, women, and persons with disabilities are aware of this notice, FSIS will announce it on-line through the FSIS Web Page located at http://www.fsis.usda.gov/regulations/2006_Notices_Index/. FSIS will also make copies of this Federal Register publication available through the FSIS Constituent Update, which is used to provide information regarding FSIS policies, procedures, regulations, Federal Register notices, FSIS public meetings, recalls and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done in Washington, DC on: September 21, 2006.
Barbara J. Masters,
Administrator.

[FR Doc. E6-15859 Filed 9-26-06; 8:45 am]

BILLING CODE 3410-DM-P